DEPARTMENT OF THE INTERIOR

Office of Indian Education Programs; Proposed Agency Information Collection Activities; Comment Request

AGENCY: Office of Indian Education Programs, Interior.

ACTION: Notice of emergency clearance and request for comments.

SUMMARY: In compliance with the Paperwork Reduction Act, this notice announces that the Bureau of Indian Affairs received an emergency clearance from the Office of Management and Budget for enrollment applications for two Bureau-operated post secondary schools: Haskell Indian Nations University and Southwestern Indian Polytechnic Institute. We are now preparing a regular clearance and requesting comments on this information collection.

DATES: Written comments must be submitted on or before June 24, 2002.

ADDRESSES: You may hand deliver or send your written comments to Kenneth Whitehorn, Department of the Interior, Office of Indian Education Programs, Branch of Planning, MS Room 3512 MIB, 1849 C Street, NW, Washington, DC 20240. You may fax your written comments to (202) 208-3312.

FOR FURTHER INFORMATION CONTACT: Kenneth Whitehorn, (202) 208-4976.

SUPPLEMENTARY INFORMATION: This notice is published in exercise of authority delegated to the Assistant Secretary—Indian Affairs under 25 U.S.C. 2 and 9 and 209 DM 8.

I. Abstract

The Bureau of Indian Affairs (BIA) is providing the admission forms for Haskell Indian Nations University and the Southwestern Indian Polytechnic Institute for 60-day review and comment period. These admission forms are useful in determining program eligibility of American Indian and Alaska Native students for educational services. The form has been changed to include a Paperwork Reduction Act and Public Burden statements, a Privacy Act statement, and an Effects of NonDisclosure statement.

These forms are utilized pursuant to Blood Quantum Act, Public Law 99-228; the Snyder Act, Chapter 115, Public Law 67-85; and, the Indian Appropriations of the 48th Congress, Chapter 180, page 91, For Support of Schools, July 4, 1884.

II. Request for Comments

The Department of the Interior invites comments on:

(a) Whether the collection of information is necessary for the proper performance of the functions of the agency, including whether the information will have practical utility;

(b) The accuracy of the agencies' estimate of the burden (including the hours and cost) of the proposed collection of information, including the validity of the methodology and assumption used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, or disclose or provide information to or for a Federal agency. This includes the time needed to review instructions; to develop, acquire, install and utilize technology and systems for the purpose of collecting, validating, and verifying information, processing and maintaining information, and disclosing and providing information, to search data sources, to complete and review the collection of information; and to transmit or otherwise disclose the information.

Comments submitted in response to this notice will be summarized and/or included in the request for OMB approval of this information collection. They also will become a matter of public record. If you wish to have your name and/or address withheld, you must state this prominently at the beginning of your comments. We will honor your request according to the requirements of the law. All comments from organizations or representatives will be available for review. We may withhold comments from review for other reasons.

All written comments will be available for public inspection in Room 3512 of the Main Interior Building, 1849 C Street, NW, Washington, DC, from 7:45 a.m. to 4:15 p.m. EST, Monday through Friday, excluding legal holidays.

We will not request nor sponsor a collection of information, and you need not respond to such a request, if there is no valid Office of Management and Budget Control Number.

III. Data

Title: Applications for Admission to Haskell Indian Nations University and to Southwestern Indian Polytechnic Institute.

OMB approval number: 1076-0114.

Type of Review: Renewal.

Description: These eligibility application forms are mandatory in determining a student's eligibility for educational services. This collection is at no cost to the public.

Total Number of Respondents: 2,281.

Total Number of Annual responses: 3,943.

Total Annual Burden hours: 2,214 hours.

Dated: April 12, 2002.
Neal A. McCaleb,
Assistant Secretary—Indian Affairs.

[FR Doc. 02-9906 Filed 4-22-02; 8:45 am]

BILLING CODE 4310-TS-P